DEPARTMENT OF TRANSPORTATION

Federal Aviation Administration

Notice of Intent To Rule on Request To Release Airport Property at the Seattle-Tacoma International Airport, Seattle, WA

AGENCY: Federal Aviation Administration (FAA), DOT.

ACTION: Notice of request to release airport property, correction.

SUMMARY: On August 12, 2009, the FAA published in the Federal Register a notice of intent to rule on a request to release airport property at the Seattle-Tacoma International Airport, Seattle, WA.

The DATES section designating the public comment period is incorrect. The correction to be made will provide a full 30-day public comment period, currently identified in FR Doc. No. E9-19055, on page 40639, as August 6, 2009.

DATES: Comments must be received on or before September 21, 2009.

Issued in Renton, Washington on August 12, 2009.
Carol Suomi,
Manager, Seattle Airports District Office, Northwest Mountain Region.

[FR Doc. E9-20123 Filed 8-20-09; 8:45 am]

BILLING CODE 4910-13-M